NUCLEAR REGULATORY COMMISSION

[Docket No. 70-1113; NRC-2009-0209]

Notice of Availability of Environmental Assessment and Finding of No Significant Impact for License Renewal for Global Nuclear Fuel—Americas, LLC, Wilmington, NC

AGENCY: Nuclear Regulatory Commission.

ACTION: Notice of availability.

FOR FURTHER INFORMATION CONTACT: Mary Adams, Senior Project Manager, Fuel Manufacturing Branch, Division of Fuel Cycle Safety and Safeguards, Office of Nuclear Material Safety and Safeguards, U.S. Nuclear Regulatory Commission, Rockville, Maryland 20852. Telephone: (301) 492-3113; Fax: (301) 492-3363; e-mail: Mary.Adams@nrc.gov.

SUPPLEMENTARY INFORMATION:

I. Introduction

The Nuclear Regulatory Commission (NRC) is considering the renewal of Special Nuclear Material License SNM-1097 for the continued operation of the Global Nuclear Fuel—Americas, LLC (GNF-A) Fuel Fabrication Facility located in Wilmington, North Carolina. This renewal authorizes the licensee to receive and possess nuclear materials at the Wilmington facility to fabricate and assemble nuclear fuel components under the provisions of 10 CFR Part 70, Domestic Licensing of Special Nuclear Material. If NRC approves the renewal of the license, the term would cover 40 years. NRC has prepared an environmental assessment (EA) in support of this action in accordance with the requirements of 10 CFR Part 51. Based on the EA, the NRC has concluded that a finding of no significant impact is appropriate. If approved, NRC will issue the renewed license following the publication of this Notice.

II. EA Summary

The licensee requests approval to renew SNM-1097 for an additional 40 years at the Wilmington, North Carolina facility. Specifically, this would allow GNF-A to continue manufacturing and assembling nuclear fuel components for use in commercial light-water-cooled nuclear power reactors. GNF-A's request for the renewal was previously noticed in the Federal Register on June 18, 2007 (72 FR 33539), with an opportunity to request a hearing. No hearing requests were received.

The staff has prepared the EA in support of the proposed license renewal. Staff considered direct, indirect, and cumulative environmental impacts to 12 resource areas in their evaluation, including: land use; transportation; socioeconomics; air quality; water quality; geology and soils; ecology; noise; historic and cultural; scenic and visual; public and occupational health; and waste management. All of the environmental impacts were small-to-moderate. The license renewal request does not require altering the site footprint nor does it change the operating processes of the existing facility. The proposed action will not adversely affect Federal or State-listed threatened or endangered species nor flora and fauna in the site vicinity.

Airborne effluents released through stacks and liquid effluents released in the North Cape Fear River are below and are anticipated to remain below regulatory limits in 10 CFR Part 20 for non-radiological and radiological contaminants. Public and occupational exposures are below the limit established in 10 CFR Part 20. GNF-A maintains acceptable waste management practices and procedures. The staff concluded that the proposed 40 year renewal of license SNM-1097 will not result in a significant impact to the environment.

NRC staff consulted with other agencies regarding the proposed action, including the National Oceanic and Atmospheric Administration (NOAA) Fisheries, the North Carolina State Historic Preservation Office, The Waccamaw Siouan Tribe, the North Carolina Cape Fear Regional Council of Governments, the North Carolina Department of Environment and Natural Resources, the North Carolina Department of Agriculture, the North Carolina Department of Cultural Resources, the North Carolina Department of Transportation, the North Carolina Crime Control & Public Safety, Division of Emergency Management, Floodplain Management Program, New Hanover County Planning, and New Hanover County Environmental. The consultations ensured that the requirements of Section 7 of the Endangered Species Act and Section 106 of the National Historic Preservation Act were met and provided the designated State liaison agency the opportunity to comment on the proposed action.

III. Finding of No Significant Impact

On the basis of the EA, NRC has concluded that there are no significant environmental impacts from the proposed license renewal and has determined not to prepare an Environmental Impact Statement.

IV. Further Information

Documents related to this action, including the application for license renewal and supporting documentation, are available electronically at the NRC's Electronic Reading Room at http://www.nrc.gov/reading-rm/adams.html. From this site, you can access the NRC's Agencywide Documents Access and Management System (ADAMS), which provides text and image files of NRC's public documents. The ADAMS accession numbers for the documents related to this notice are:

Document | ADAMS accession Nos.
License Renewal—Letter and Application | ML071000128
Environmental Report Supplement/Appendix | ML071000137/ML071000144
Letters to GNF-A—Request for Additional Information (RAI) | ML080860543/ML083110367
GNF-A Letters to NRC—Response to RAI | ML081350536/ML083540569
NRC Letter to New Hanover County Environmental | ML073620213
NRC Letter to National Oceanic and Atmospheric Administration (NOAA) Fisheries | ML073620398
NOAA Fisheries Letter to NRC | ML080290570
NRC Letter to North Carolina State Clearinghouse | ML073620443/ML090641049
North Carolina Wildlife Resources Letter to NRC | ML080650578
North Carolina Coastal Management Letter to NRC | ML080650577
North Carolina State E-mail to NRC | ML091170068/ML091170107
NRC Letter to New Hanover County Planning | ML073620172
New Hanover County Planning E-mail to NRC | ML081290389
Environmental Assessment | ML091180239

If you do not have access to ADAMS or if there are problems in accessing the documents located in ADAMS, contact the NRC Public Document Room (PDR) Reference staff at 1-800-397-4209, 301-415-4737 or by e-mail to pdr.resource@nrc.gov.

These documents may also be viewed electronically on the public computers located at the NRC's PDR, O1 F21, One White Flint North, 11555 Rockville Pike, Rockville, MD 20852. The PDR reproduction contractor will copy documents for a fee.

Dated at Rockville, Maryland, this 13th day of May 2009.
For the U.S. Nuclear Regulatory Commission.
Andrea Kock,
Chief, Environmental Review Branch, Environmental Protection and Performance Assessment Directorate, Division of Waste Management and Environmental Protection, Office of Federal and State Materials and Environmental Management Programs.

[FR Doc. E9-11611 Filed 5-18-09; 8:45 am]

BILLING CODE 7590-01-P